DEPARTMENT OF COMMERCE

National Oceanic and Atmospheric Administration

[I.D. 021405A]

Endangered Species; File No. 1522; Permit No. 1356

AGENCY: National Marine Fisheries Service (NMFS), National Oceanic and Atmospheric Administration (NOAA), Commerce.

ACTION: Receipt of application and modification request.

SUMMARY: Notice is hereby given that the following applicants have applied in due form for a permit (File No. 1522) or modification to a permit (Permit No. 1356) to take loggerhead (Caretta caretta) and green (Chelonia mydas) sea turtles for purposes of scientific research:

Kenneth J. Lohmann, Department of Biology, Wilson Hall, CB#3280, University of North Carolina at Chapel Hill, Chapel Hill, NC 27599 (File No. 1522);

Inwater Research Group Inc., 4160 NE Hyline Dr., Jensen Beach, FL 34957 (Permit No. 1356).

DATES: Written, telefaxed, or e-mail comments on the new application and amendment requests must be received on or before March 25, 2005.

ADDRESSES: The applications and related documents are available for review upon written request or by appointment in the following office(s):

Permits, Conservation and Education Division, Office of Protected Resources, NMFS, 1315 East-West Highway, Room 13705, Silver Spring, MD 20910; phone (301)713-2289; fax (301)427-2521; and

Southeast Region, NMFS, 9721 Executive Center Drive North, St. Petersburg, FL 33702-2432; phone (727)570-5301; fax (727)570-5320.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1522 or Permit No. 1356.

FOR FURTHER INFORMATION CONTACT: Patrick Opay or Ruth Johnson, 301/713-2289.

SUPPLEMENTARY INFORMATION: The subject permit and amendment are requested under the authority of the Endangered Species Act of 1973, as amended (ESA; 16 U.S.C. 1531 et seq.) and the regulations governing the taking, importing, and exporting of endangered and threatened species (50 CFR 222-227).

Application for Permit

File No. 1522 Kenneth Lohmann: This applicant proposes to conduct two studies. The first would study the magnetic orientation of hatchlings migrating offshore. Loggerhead and green sea turtle hatchlings would have a lightweight float attached to them and they would be tracked by boat as they migrate offshore. At the conclusion of each test, researchers would recapture each turtle to remove the experimental gear and then release the turtle so that it could continue its migration.

The second study would investigate the navigation of adult loggerhead sea turtles. The study would have two experiments. The first would involve simple displacement involving releases at sites that lie in various directions and distances from the nesting beach so that the tracks could be analyzed in the context of magnetic topography and other potential cues.

The second would involve determining if disrupting the magnetic field around a displaced turtle impairs its ability to home. Two groups of turtles would be released at the same location, one with magnets or magnetic coils attached to their heads, the other with non-magnetic brass bars of equivalent size and weight attached to their heads (the control). Turtles would be tracked using a floating instrument attached to the turtle by means of a six meter long tether consisting of a 7-day corrodible link attached to a meter-long thin, stiff rod and five meters of very stiff stainless steel fishing leader. While the tether set-up would be removed on the beach after the turtle returns to nest, in the event that the researchers are unable to recapture the turtle on a nesting beach they are requesting authorization from NMFS to recapture her at sea and remove the tether equipment.

Application to Modify Permit No. 1356

Permit No. 1356 - Inwater Research Group, Inc.: The existing permit allows the take of green, loggerhead, Kemp's ridley and hawksbill turtles to study the demographic composition and genetic origin of sea turtles within the Key West National Wildlife Refuge, Florida. The permit holder requests a modification to the permit to attach satellite transmitters to a subset of the green sea turtles already authorized to be captured. The Holder also requests authority to conduct sampling all months of the year and to modify their study area to include a 30 kilometer area south, west and north of the Marquesas Keys.

Dated: February 16, 2005.
Stephen L. Leathery,
Chief, Permits, Conservation and Education Division, Office of Protected Resources, National Marine Fisheries Service.

[FR Doc. 05-3441 Filed 2-22-05; 8:45 am]

BILLING CODE 3510-22-S